DEPARTMENT OF TRANSPORTATION

Maritime Administration

[Docket No. MARAD-2004-17114]

Port of Anchorage Expansion—Marine Terminal Redevelopment

AGENCY: Maritime Administration, Department of Transportation.

ACTION: Notice of extension of comment period.

SUMMARY: The Maritime Administration is hereby giving notice that the closing date for filing comments on the Port of Anchorage Expansion, Marine Terminal Redevelopment (Docket No. MARAD 2004-17114) has been extended to the close of business (5 p.m. EST) on September 17, 2004. The Notice of Availability was published in the Federal Register on August 11, 2004 (69 FR 48905).

By Order of the Maritime Administrator.
Dated: September 10, 2004.
Joel C. Richard,
Secretary, Maritime Administration.

[FR Doc. 04-20861 Filed 9-15-04; 8:45 am]

BILLING CODE 4910-81-P